DEPARTMENT OF HOMELAND SECURITY

Coast Guard

[Docket No. USCG-2009-0845]

Public Meeting on Ports and Waterways Assessment

AGENCY: Coast Guard, DHS.

ACTION: Notice of public meeting; request for comments.

SUMMARY: The Coast Guard announces a public meeting in order to receive public comments on the results of the U.S. Coast Guard sponsored Ports and Waterways Safety Assessment conducted July 14-15, 2009. Specific comments should target any risk areas within the waterways and mitigating measures which may address outstanding risk areas along the Houston Ship Channel. The Captain of the Port would also like to receive comments related to possible areas which can be used for Waterways Optimization, including improving port security for the channel and adjacent facilities.

DATES: A public meeting will be held on Tuesday, October 6, 2009, from 9 a.m. to 12 p.m. (noon) to provide an opportunity for oral comments. Written comments and related material may also be submitted to Coast Guard personnel specified at that meeting. All comments and related material submitted after the meeting must be received by the Coast Guard on or before Friday, October 30, 2009.

ADDRESSES: The public meeting will be held at Marine Safety Unit Galveston, 3101 FM 2004, Texas City, TX 77591, telephone 409-978-2700. A government-issued photo identification will be required for entrance to the building.

You may submit written comments identified by docket number USCG-2009-0845 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket for this rulemaking is available on the Internet at http://www.regulations.gov under docket number USCG-2009-0845.

FOR FURTHER INFORMATION CONTACT: If you have questions concerning the meeting, please call or e-mail LTJG Margaret Brown, Coast Guard Sector Houston-Galveston, Waterways Management, telephone 713-678-9001, e-mail Margaret.A.Brown@uscg.mil. If you have questions on viewing or submitting material to the docket, call Renee V. Wright, Program Manager, Docket Operations, telephone 202-366-9826.

SUPPLEMENTARY INFORMATION:

Background and Purpose

The purpose of the meeting is to receive comments on the U.S. Coast Guard sponsored Ports and Waterways Safety Assessment conducted July 14-15, 2009. A copy of the assessment will be attached to the docket. Specific comments should target any risk areas within the waterways and mitigating measures which may address outstanding risk areas along the Houston Ship Channel. The Captain of the Port would also like to receive comments related to possible areas which can be used for Waterways Optimization, including improving port security for the channel and adjacent facilities.

You may view the online docket and comments submitted thus far by going to http://www.regulations.gov. Once there, insert “USCG-2009-0845” in the “Keyword” box and click “Search.” You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this meeting by submitting comments either orally at the meeting or in writing. If you bring written comments to the meeting, you may submit them to Coast Guard personnel specified at the meeting to receive written comments. These comments will be submitted to our online public docket. All comments received will be posted without change to http://www.regulations.gov and will include any personal information you have provided.

Comments submitted after the meeting must reach the Coast Guard on or before October 30, 2009. If you submit a comment online via http://www.regulations.gov, it will be considered received by the Coast Guard when you successfully transmit the comment. If you fax, hand deliver, or mail your comment, it will be considered as having been received by the Coast Guard when it is received at the Docket Management Facility.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact LTJG Margaret Brown at the telephone number or e-mail address indicated under the FOR FURTHER INFORMATION CONTACT section of this notice.

Public Meeting

The Coast Guard will hold a public meeting regarding the Houston-Galveston waterways on Tuesday, October 6, 2009, from 9 a.m. to 12 p.m. (noon) at Marine Safety Unit Galveston, 3101 FM 2004, Texas City, TX 77591, telephone 409-978-2700. The meeting location is not accessible by public transportation. Parking is available at no cost.

Dated: September 21, 2009.
M.E. Woodring,
Captain, U.S. Coast Guard, Captain of the Port Houston-Galveston.

[FR Doc. E9-23876 Filed 10-2-09; 8:45 am]

BILLING CODE 4910-15-P